DEPARTMENT OF JUSTICE

[OMB Number 1117-0052]

Agency Information Collection Activities; Proposed eCollection eComments Requested; Extension of a Currently Approved Collection: National Drug Threat Survey

AGENCY: Drug Enforcement Administration, Department of Justice.

ACTION: 30-Day notice.

SUMMARY: The Department of Justice (DOJ), Drug Enforcement Administration, will be submitting the following information collection request to the Office of Management and Budget (OMB) for review and approval in accordance with the Paperwork Reduction Act of 1995. This collection was previously published in the Federal Register at 81 FR 59656, on August 30, 2016, allowing for a 60 day comment period.

DATES: Comments are encouraged and will be accepted for an additional 30 days until December 5, 2016.

FOR FURTHER INFORMATION CONTACT: If you have additional comments especially on the estimated public burden or associated response time, suggestions, or need a copy of the proposed information collection instrument with instructions or additional information, please contact Kirsten Waters, Unit Chief, Domestic Strategic Intelligence Unit, Office of Strategic Intelligence and Programs, Drug Enforcement Administration, 8701 Morrissette Drive, Springfield, VA 22152. Written comments and/or suggestions can also be directed to the Office of Management and Budget, Office of Information and Regulatory Affairs, Attention Department of Justice Desk Officer, Washington, DC 20530 or sent to OIRA_submissions@OMB.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: National Drug Threat Survey.

3. The agency form number, if any, and the applicable component of the Department sponsoring the collection: None.

4. Affected public who will be asked or required to respond, as well as a brief abstract: The affected public includes state, local and tribal law enforcement agencies. Combined with other Federal, state, and local information, the survey is used to present an accurate picture of the national drug threat.

5. An estimate of the total number of respondents and the amount of time estimated for an average respondent to respond: It is estimated that approximately 12,782 respondents will complete the survey within approximately 33 minutes.

6. An estimate of the total public burden (in hours) associated with the collection: The estimated public burden associated with this collection is 4218. This figure was derived by multiplying the number of respondents (12,782) × frequency of response (1) × hours (0.33). The estimate time for response is a conservative estimate. The technology available to the respondent will further reduce response time.

If additional information is required contact: Jerri Murray, Department Clearance Officer, United States Department of Justice, Justice Management Division, Policy and Planning Staff, Two Constitution Square, 145 N Street NE., 3E.405B, Washington, DC 20530.

Dated: November 1, 2016.
Jerri Murray,
Department Clearance Officer for PRA, U.S. Department of Justice.

[FR Doc. 2016-26703 Filed 11-3-16; 8:45 am]

BILLING CODE 4410-09-P